DEPARTMENT OF TRANSPORTATION

Federal Aviation Administration

14 CFR Part 71

[Docket No. FAA-2013-0960; Airspace Docket No. 13-AGL-17]

RIN 2120-AA66

Proposed Modification and Revocation of Air Traffic Service (ATS) Routes; Northcentral United States

AGENCY: Federal Aviation Administration (FAA), DOT.

ACTION: Notice of proposed rulemaking (NPRM).

SUMMARY: This action proposes to modify three jet routes and four VOR Federal airways and to remove three jet routes in the northcentral United States. The FAA is proposing this action due to the scheduled decommissioning of the Peck, MI, VHF Omnidirectional Range (VOR), which provides navigation guidance for portions of the affected routes. The Tactical Air Navigation (TACAN) facility will remain in service. This action would promote the safety and efficient management of aircraft within the National Airspace System.

DATES: Comments must be received on or before March 31, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0960 and Airspace Docket No. 13-AGL-17 at the beginning of your comments. You may also submit comments through the Internet at http://www.regulations.gov.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0960 and Airspace Docket No. 13-AGL-17) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0930 and Airspace Docket No. 13-AGL-17.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

The Peck, MI (ECK), VOR is being decommissioned due to signal interference impacts to the facility created by a power line project that is being constructed in the proximity of the ECK VOR; however, the collocated TACAN facility will remain in service. The power line project is a State of Michigan initiative to provide renewable energy to the State by 2015 with a plan to construct power line towers and route transmission lines within 1,400 feet of the ECK VOR facility. Modeling impacts of the proposed power line construction project on the ECK VOR determined that the project will cause bearing errors in excess of flight check tolerances at multiple azimuths around the facility, thereby compromising the integrity of the existing airways supported by the ECK VOR. A determination has been made to permanently decommission the facility due to the projected signal degradation from the planned power line nearby. Additionally, the ECK VOR is not on the list of VORs planned for retention in the VOR Minimum Operational Network (MON). As a result, the ATS routes that utilize the ECK VOR must be amended.

The affected routes are: jet route J-16, J-38, J-94, J-546, J-551, and J-553, and VOR Federal airways V-84, V-216, V-320, and V-337. With the decommissioning of the ECK VOR, ground-based navigation aid (NAVAID) coverage is insufficient to enable the continuity of all the airways. Therefore, the proposed modifications to jet routes J-16 and J-94, and VOR Federal airways V-84 and V-337 would result in a gap in the route structures. To overcome the gaps created in the route structures, air traffic control (ATC) would either provide radar vectoring or reroute affected aircraft using the remaining route structure, as determined appropriate.

This action also proposes to modify V-216 further by removing the route segment that is charted unusable from the Janesville, WI (JVL), VOR to the Muskegon, MI (MKG), VHF Omnidirectional Range/Tactical Air Navigation (VORTAC) facility, as well as removing the route segment from MKG to the Saginaw, MI (MBS), VOR due to low usage and large portions of V-216 to the west and east being removed. The route segment from JVL to MKG has been unusable since 2009 as a result of the MKG radial supporting V-216 failing flight inspection and the FAA being unable to resolve the associated MKG VOR radial restrictions. The route segment from MKG to MBS is also proposed to be removed due to its limited use (less than six aircraft per day, on average), and being bracketed by substantial airway segments to the west and east being removed. As mentioned previously, ATC would either provide radar vectoring or reroute affected aircraft using remaining route structure to overcome this gap in V-216.

The Proposal

The FAA is proposing an amendment to Title 14, Code of Federal Regulations (14 CFR) part 71 to amend jet routes J-16, J-38, and J-94, and VOR Federal airways V-84, V-216, V-320, and V-337. The FAA also proposes to remove jet routes J-546, J-551, and J-553. The scheduled decommissioning of the ECK VOR facility has made this action necessary. The proposed route changes are outlined below.

J-16: J-16 currently extends between Battle Ground, WA (BTG) and Boston, MA (BOS), excluding the airspace within Canada. The FAA would eliminate the part of the route between Badger, WI (BAE) and London, ON, Canada (YXU). The unaffected portions of the existing route will remain as charted in the two remaining segments.

J-38: J-38 currently extends between Duluth, MN (DLH) and Peck, MI (ECK). The FAA would eliminate the part of the route between Green Bay, WI (GRB) and ECK. The unaffected portion of the existing route will remain as charted.

J-94: J-94 currently extends between Oakland, CA (OAK) and Boston, MA (BOS), excluding the airspace within Canada. The FAA would eliminate the part of the route between Flint, MI (FNT) and London, ON, Canada (YXU). The unaffected portions of the existing route will remain as charted in the two remaining segments.

V-84: V-84 currently extends between Northbrook, IL (OBK) and Syracuse, NY (SYR), excluding the airspace within Canada. The FAA would eliminate the part of the route between Flint, MI (FNT) and London, ON, Canada (YXU). The unaffected portions of the existing route will remain as charted in the two remaining segments.

V-216: V-216 currently extends between Lamar, CO (LAA) and Toronto, ON, Canada (YYZ), excluding the airspace within Canada. The FAA would eliminate the part of the route between Janesville, WI (JVL) and YYZ. The unaffected portions of the existing route will remain as charted in the two remaining segments.

V-320: V-320 currently extends between Pellston, MI (PLN) and Toronto, ON, Canada (YYZ), excluding the airspace within Canada. The FAA would eliminate the part of the route between Saginaw, MI (MBS) and YYZ. The unaffected portions of the existing route will remain as charted in the two remaining segments.

V-337: V-337 currently extends between the intersection of the Briggs, OH (BSV), 077° and Youngstown, OH (YNG), 177° radials and White Cloud, MI (HIC). The FAA would eliminate the part of the route between Akron, OH (ACO) Saginaw, MI (MBS). The unaffected portions of the existing route will remain as charted in the two remaining segments.

The navigation aid radials cited in the proposed route descriptions, below, are unchanged from the existing routes and stated relative to True north.

Jet routes are published in paragraph 2004 and VOR Federal airways are published in paragraph 6010(a), respectively, of FAA Order 7400.9X dated August 7, 2013, and effective September 15, 2013, which is incorporated by reference in 14 CFR 71.1. The jet routes and VOR Federal airways listed in this document would be subsequently published in the Order.

The FAA has determined that this proposed regulation only involves an established body of technical regulations for which frequent and routine amendments are necessary to keep them operationally current. Therefore, this proposed regulation: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that would only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 2004 Jet Routes

J-16 [Amended]

From Battle Ground, WA; Pendleton, OR; Whitehall, MT; Billings, MT; Dupree, SD; Sioux Falls, SD; Mason City, IA; to Badger, WI. From London, ON, Canada; Buffalo, NY; Albany, NY; to Boston, MA; excluding the airspace within Canada.

* * * * *

J-38 [Amended]

From Duluth, MN; to Green Bay, WI.

* * * * *

J-94 [Amended]

From Oakland, CA; Manteca, CA; INT Manteca 047° and Mustang, NV, 208° radials; to Mustang; Lovelock, NV; Battle Mountain, NV; Lucin, UT; Rock Springs, WY; Scottsbluff, NE; O'Neill, NE; Fort Dodge, IA; Dubuque, IA; Northbrook, IL; Pullman, MI; to Flint, MI. From London, ON, Canada; Buffalo, NY; Albany, NY; to Boston, MA; excluding the airspace within Canada.

* * * * *

J-546 [Removed]

* * * * *

J-551 [Removed]

* * * * *

J-553 [Removed]

* * * * *

Paragraph 6010 Domestic VOR Federal Airways

V-84 [Amended]

From Northbrook, IL; Pullman, MI; Lansing, MI; to Flint, MI. From London, ON, Canada; Buffalo, NY; Geneseo, NY; INT Geneseo 091° and Syracuse, NY, 240° radials; to Syracuse; excluding the airspace within Canada.

* * * * *

V-216 [Amended]

From Lamar, CO; Hill City, KS; Mankato, KS; Pawnee City, NE; Lamoni, IA; Ottumwa, IA; Iowa City, IA; INT Iowa City 062° and Janesville, WI, 240° radials; to Janesville.

* * * * *

V-320 [Amended]

From Pellston, MI; Traverse City, MI; Mount Pleasant, MI; to Saginaw, MI.

* * * * *

V-337 [Amended]

From INT Briggs, OH, 077° and Youngstown, OH, 177° radials; to Akron, OH. From Saginaw, MI; Mount Pleasant, MI; to White Cloud, MI.

* * * * *

Issued in Washington, DC, on February 10, 2014.
Ellen Crum,
Acting Manager, Airspace Policy & Regulations Group.

[FR Doc. 2014-03181 Filed 2-12-14; 8:45 am]

BILLING CODE 4910-13-P